DEPARTMENT OF THE INTERIOR

Bureau of Reclamation

Notice of Availability of the Draft Environmental Impact Statement and Notice of Public Meetings for the Newlands Project Resource Management Plan

AGENCY: Bureau of Reclamation, Interior.

ACTION: Notice.

SUMMARY: The Bureau of Reclamation has made available for public review and comment, the Draft Resource Management Plan (RMP)/Draft Environmental Impact Statement (DEIS) for the Newlands Project. This RMP/DEIS provides a range of alternatives for managing Reclamation-administered lands in the Newlands Project Planning Area, which is in the west-central Nevada counties of Washoe, Storey, Lyon, and Churchill.

DATES: Submit written comments on the RMP/DEIS on or before July 29, 2013.

Reclamation will hold two public open house meetings to provide information and receive comments on the RMP/DEIS:

• Tuesday, June 18, 2013, 3:00 p.m.-7:00 p.m., Fallon, NV

• Wednesday, June 19, 2013, 4:00 p.m.-7:00 p.m., Reno, NV

ADDRESSES: Please send written comments to Mr. Bob Edwards, RMP Project Manager, Bureau of Reclamation, 705 N. Plaza Street, Room 320, Carson City, NV 89701; via fax at 775-882-7592; or by email to redwards@usbr.gov. Written comments also may be submitted during the public meetings.

The public meetings will be held at the following locations:

• Fallon at Churchill County Commission Chambers, 155 N. Taylor Street, Suite 110, Fallon, NV 89406

• Reno at Hyatt Place Reno-Tahoe Airport, 1790 East Plumb Lane, Reno, NV 89502

FOR FURTHER INFORMATION CONTACT: Mr. Bob Edwards at 775-884-8342. The RMP/DEIS will be available from the following Web site: http://www.usbr.gov/mp/nepa/nepa_projdetails.cfm?Project_ID=2822. See the SUPPLEMENTARY INFORMATION section for locations where copies of the RMP/DEIS are available for public review.

SUPPLEMENTARY INFORMATION: The Newlands Project provides irrigation water from the Truckee and Carson Rivers for cropland in the Lahontan Valley near Fallon and benchlands near Fernley in western Nevada through a series of diversions, canals, dams, and reservoirs. The Newlands Project Planning Area encompasses approximately 442,000 acres surrounding the Newlands Project facilities and is composed of all Reclamation-administered lands, including water bodies, managed as part of the Newlands Project.

The Newlands Project lands have been administered to date in accordance with applicable directives and standards. The purpose of the Newlands Project RMP is to provide a single, comprehensive land use plan that will guide contemporary resource and recreation needs of the Federal lands administered by Bureau of Reclamation (Reclamation) in the Newlands Project planning area. The RMP will help support the Newlands Project's authorized purposes: Water supply, recreation, water quality, support of fish and wildlife, and any other purposes recognized as beneficial under the laws of Nevada.

This RMP addresses the use of Federal lands administered by Reclamation in the planning areas that are ancillary to the primary purpose of providing water for irrigation. The water resource itself and the facilities and infrastructure used to transport and store water are excluded from this RMP/DEIS.

This RMP/DEIS addresses the interrelationships among the various resources in the Newlands Project Planning Area and provides management options to balance resource management between Reclamation's mission and authority, and the needs of the public to use these lands. Reclamation's authority to prepare the RMP is outlined in the Reclamation Recreation Management Act of 1992 (Pub. L. 102-575, Title 28).

The purposes of the Newlands Project RMP are as follows:

• Provide a framework to ensure Reclamation plans and activities comply with all appropriate federal, state, and local laws, rules, regulations, and policies;

• Provide for the protection and management of natural and cultural resources and public health and safety;

• Provide for non-water based recreation management and development and other uses consistent with contemporary and professional resource management and protection theories, concepts, and practices; and

• Be consistent with Reclamation's fiscal goals and objectives.

The RMP is needed because no unifying management plan exists to guide Reclamation in achieving the demands listed above.

Draft Resource Management Plan

Three management alternatives were developed to address the major planning issues. Each alternative provides direction for resource programs based on the development of specific goals and management actions. Each alternative describes specific issues influencing land management and emphasizes a different combination of resource uses, allocations, and restoration measures to address issues and resolve conflicts among users. Resource program goals are met in varying degrees across alternatives. Management scenarios for programs not tied to major planning issues or mandated by laws and regulations often contain few or no differences in management between alternatives.

The alternatives vary in the degree to which activities are allowed or restricted, the amount of access allowed for activities, and the amount of mitigation or restoration required for authorized activities. Grazing is where the alternatives differ the most and was of most interest to the public during scoping.

Copies of the RMP/DEIS are available for public review at the following locations:

• Washoe County Library, Fernley Branch Lyon County Library, and the Churchill County Library

• Natural Resources Library, Department of the Interior, 1849 C Street NW., Main Interior Building, Washington, DC 20240

• Bureau of Reclamation, Lahontan Basin Area Office, 705 N. Plaza Street, Room 320, Carson City, NV

• Mid-Pacific Regional Library, Bureau of Reclamation, 2800 Cottage Way, Sacramento, CA 95825

Special Assistance for Public Meetings

If special assistance is required to participate in the above public meeting, please contact Mr. Bob Edwards at 775-884-8342, or by email at redwards@usbr.gov. Please notify Mr. Edwards as far in advance as possible to enable Reclamation to secure the needed services. If a request cannot be honored, the requestor will be notified. A telephone device for the hearing impaired (TDD) is available at 775-882-3436.

Public Disclosure

Before including your address, phone number, email address, or other personal identifying information in your comment, you should be aware that your entire comment—including your personal identifying information—may be made publicly available at any time. While you can ask us in your comment to withhold your personal identifying information from public review, we cannot guarantee that we will be able to do so.

Dated: April 10, 2013.
Pablo R. Arroyave,
Deputy Regional Director, Mid-Pacific Region.

[FR Doc. 2013-12622 Filed 5-24-13; 8:45 am]

BILLING CODE 4310-MN-P